NUCLEAR REGULATORY COMMISSION

[NRC-2014-0001]

Sunshine Act Meeting Notice

DATE: Weeks of September 8, 15, 22, 29, October 6, 13, 2014.

PLACE: Commissioners' Conference Room, 11555 Rockville Pike, Rockville, Maryland.

STATUS: Public and Closed.

Week of September 8, 2014

Tuesday, September 9, 2014

9:30 a.m. Briefing on NRC International Activities (Closed—Ex. 1 & 9)

Wednesday, September 10, 2014

9:30 a.m. Strategic Programmatic Overview of the New Reactors Business Line (Public Meeting); (Contact: Donna Williams, 301-415-1322)

This meeting will be webcast live at the Web address— http://www.nrc.gov/.

Week of September 15, 2014—Tentative

Monday, September 15, 2014

1:30 p.m. NRC All Employees Meeting (Public Meeting), Marriott Bethesda North Hotel, 5701 Marinelli Road, Rockville, MD 20852.

Tuesday, September 16, 2014

10:00 a.m. Briefing on Project Aim 2020 (Closed—Ex. 2)

Thursday, September 18, 2014

9:00 a.m. Briefing on Management of Low-Level Waste, High-Level Waste, and Spent Nuclear Fuel (Public Meeting); (Contact: Cinthya I. Román, 301-287-9091)

This meeting will be webcast live at the Web address— http://www.nrc.gov/.

Week of September 22, 2014—Tentative

There are no meetings scheduled for the week of September 22, 2014.

Week of September 29, 2014—Tentative

Thursday, October 2, 2014

10:00 a.m. Meeting with the Advisory Committee on Reactor Safeguards(ACRS) (Public Meeting); (Contact: Ed Hackett, 301-415-7360).

This meeting will be webcast live at the Web address— http://www.nrc.gov/.

Week of October 6, 2014—Tentative

Tuesday, October 7, 2014

9:00 a.m. Briefing on the Status of Near-Term Task Force Recommendation 2.1 for Seismic Hazard Reevaluations (Public Meeting); (Contact: Nicholas DiFrancesco, 301-415-1115)

This meeting will be webcast live at the Web address— http://www.nrc.gov/.

Week of October 13, 2014—Tentative

Wednesday, October 15, 2014

11:00 a.m. Discussion of Management and Personnel Issues (Closed—Ex. 2 and 6)

* * * * *

The schedule for Commission meetings is subject to change on short notice. For more information or to verify the status of meetings, contact Rochelle Bavol at (301) 415-1651 or via email at Rochelle.Bavol@nrc.gov .

* * * * *

The NRC Commission Meeting Schedule can be found on the Internet at: http://www.nrc.gov/public-involve/public-meetings/schedule.html.

* * * * *

The NRC provides reasonable accommodation to individuals with disabilities where appropriate. If you need a reasonable accommodation to participate in these public meetings, or need this meeting notice or the transcript or other information from the public meetings in another format (e.g. braille, large print), please notify Kimberly Meyer, NRC Disability Program Manager, at 301-287-0727, by videophone at 240-428-3217, or by email at Kimberly.Meyer-Chambers@nrc.gov . Determinations on requests for reasonable accommodation will be made on a case-by-case basis.

* * * * *

Members of the public may request to receive this information electronically. If you would like to be added to the distribution, please contact the Office of the Secretary, Washington, DC 20555 (301-415-1969), or send an email to Patricia.Jimenez@nrc.gov or Brenda.Akstulewicz@nrc.gov

Dated: September 4, 2014.
Rochelle C. Bavol,
Policy Coordinator, Office of the Secretary.

[FR Doc. 2014-21407 Filed 9-4-14; 4:15 pm]

BILLING CODE 7590-01-P